DEPARTMENT OF TRANSPORTATION

National Highway Traffic Safety Administration

[NHTSA-2006-23656]

Incentive Grants To Support Increased Safety Belt Use Rates Section 406 Implementing Guidelines

AGENCY: National Highway Traffic Safety Administration, DOT.

ACTION: Announcement of grant program for States that enact and enforce primary safety belt use laws or achieve and maintain a high safety belt use rate without primary safety belt use laws.

SUMMARY: The National Highway Traffic Safety Administration (NHTSA) announces a new primary safety belt use law and safety belt performance grant program to increase safety belt use by Americans in passenger motor vehicles. The program makes funds available during fiscal years 2006 through 2009 to provide a one-time only grant to States that enact and enforce primary safety belt use laws within certain time periods or achieve 85 percent or higher safety belt use for two consecutive years without a primary safety belt use law. This notice informs the 50 States, the District of Columbia, Puerto Rico, American Samoa, the Commonwealth of Northern Mariana Islands, Guam and the Virgin Islands, through their Governors' Representatives for Highway Safety, of the application procedures to receive grant funds to be made available in fiscal years 2006 through 2009.

DATES: Applications must be submitted on or before July 1 of the fiscal year for which a State seeks a grant.

ADDRESSES: Applications must be submitted to the appropriate Regional Administrator.

FOR FURTHER INFORMATION CONTACT: For program issues, John Oates, Chief, Implementation Division, Office of Injury Control Operations and Resources, NTI-200, National Highway Traffic Safety Administration, 400 Seventh Street, SW., Washington, DC 20590, telephone (202) 366-2121. For legal issues, Tina Mun Ro, Attorney-Advisor, Office of Chief Counsel, NCC-113, National Highway Traffic Safety Administration, 400 Seventh Street, SW., Washington, DC 20590, telephone (202) 366-1834.

SUPPLEMENTARY INFORMATION:

Background

Section 2005 of the Safe, Accountable, Flexible, Efficient Transportation Equity Act: A Legacy for Users (SAFETEA-LU) establishes a grant program to encourage increased safety belt use by Americans in passenger motor vehicles. The law accomplishes this by rewarding States that enact and enforce a primary safety belt use law or, in the absence of a primary law, achieve and maintain a safety belt use rate of 85 percent or higher in two consecutive years. The one-time grant program is codified at 23 U.S.C. 406 (“the Section 406 Program”), and allows recipients to use funds for a variety of highway safety or roadway safety purposes.

Requirements To Receive a Grant

The Section 406 Program provides three circumstances under which States may qualify for a one-time grant award. A State may enact a primary safety belt use law on or after January 1, 2003 (a “New Primary Law State”); it may have a primary safety belt use law in effect on or before December 31, 2002 (a “Pre-2003 Primary Law State”); or it may achieve a safety belt use rate of 85 percent or higher in two consecutive calendar years beginning after December 31, 2005 (a “Safety Belt Performance State”). These qualification requirements are described in more detail below. Note that a State may receive only one grant and under only one of these categories for the duration of the Section 406 grant program.

New Primary Law States

SAFETEA-LU provides a one-time grant award equal to 475 percent of the amount apportioned to the State under Section 402(c) for Fiscal Year (FY) 2003 to any State that “enacts for the first time after December 31, 2002, and has in effect and is enforcing a conforming primary safety belt use law for all passenger motor vehicles.” Under this program, a conforming primary safety belt use law is a safety belt use law that allows law enforcement officials to stop a passenger motor vehicle and issue a citation to, at a minimum, any front seat passenger not wearing a safety belt, without the need for probable cause to believe that another violation has been committed. “Passenger Motor Vehicle” is defined under the statute to mean a passenger car, a pickup truck, and a van, minivan or sport utility vehicle with a gross vehicle weight rating of less than 10,000 pounds.

Since SAFETEA-LU contains the qualifier that the safety belt use law be “enacted for the first time,” only States that did not have a conforming primary safety belt use law in effect at any time on or before December 31, 2002 may qualify as a New Primary Law State. Also, since SAFETEA-LU requires the safety belt use law to be “in effect” and the State to be “enforcing” it, the law must not only be enacted but be in operation, allowing citations to be issued. Therefore, for example, a primary safety belt use law that has a future effective date or that includes a provision limiting enforcement to written warnings during a “grace period” after the law goes into effect would not be deemed in effect or being enforced until the effective date is reached or the grace period ends.

In order for a New Primary Law State to qualify for a grant award in a fiscal year, SAFETEA-LU further requires that the law be enacted before July 1 of that fiscal year. A law enacted on or after July 1 is deemed by the statute to be enacted on October 1 of the next Federal fiscal year. In the event that a State enacts a conforming primary safety belt use law by June 30 of a fiscal year that will not go into effect until sometime between July 1 and the cut-off date for award of that fiscal year's grants, the agency will set aside funds for that State, but will not award those funds until the agency confirms that the law is in effect and is being enforced and has received a certification to that effect from the State.

While NHTSA does not require or encourage the adoption of exemptions, the agency notes that many existing safety belt use laws contain a number of exemptions. The agency believes that the Section 406 Program's ultimate goal of achieving higher belt use rates would not be served by denying a grant to States whose laws contain any exemptions, without regard to the nature of those exemptions. On the other hand, some exemptions would so severely undermine the safety considerations underlying the statute as to render a State whose law contains such exemptions ineligible for a grant. The agency will review each State's primary safety belt use law to determine the acceptability of any exemptions. As NHTSA did in 1998 to implement the Section 405 grant program under the Transportation Equity Act for the 21st Century (TEA-21), the agency has reviewed existing safety belt use laws and has determined that the following exemptions are not incompatible with the requirements of SAFETEA-LU:

• Persons with medical conditions who are unable to use a safety belt, provided there is written documentation from a physician;

• Postal, utility, and other commercial drivers who make frequent stops in the course of their business;

• Emergency vehicle operators and passengers;

• Persons riding in seating positions or vehicles not required to be equipped with safety belts;

• Public and livery conveyances;

• Farm vehicles;

• Unrestrained occupants when all safety belts are being used by other occupants;

• Vehicles designed for 10 or more people;

• Off-road vehicles;

• Persons riding in parade vehicles; and

• Persons in the custody of police.

The agency has accepted these exemptions by long-standing application in safety belt programs. A State that enacts a law with any exemption other than those identified as acceptable should anticipate that the agency will review the exemption to determine whether its impact on traffic safety is minimal and it is, therefore, acceptable.

Pre-2003 Primary Law States

SAFETEA-LU provides a one-time grant award equal to 200 percent of the amount apportioned to the State under Section 402(c) for FY 2003 to “each State that enacted, has in effect, and is enforcing a conforming primary safety belt use law for all passenger motor vehicles that was in effect before January 1, 2003.” NHTSA has identified and reviewed all primary safety belt use laws enacted before January 1, 2003. The following States qualify for grants as Pre-2003 Primary Law States: Alabama, American Samoa, California, Commonwealth of the Northern Mariana Islands, Connecticut, District of Columbia, Guam, Hawaii, Iowa, Louisiana, Maryland, Michigan, New Jersey, New Mexico, New York, North Carolina, Oklahoma, Oregon, Puerto Rico, Texas, Virgin Islands, Washington.

Two States that enacted primary safety belt use laws before January 1, 2003, Georgia and Indiana, do not qualify for grants as Pre-2003 Primary Law States because their laws do not include coverage for all passenger motor vehicles, a requirement of SAFETEA-LU.

Safety Belt Performance States

SAFETEA-LU provides a one-time grant award equal to 475 percent of the amount apportioned to the State under Section 402(c) for FY 2003 to any State that does not have a conforming primary safety belt use law but, after December 31, 2005, has a State safety belt use rate of 85 percent or higher for each of the two consecutive calendar years immediately preceding the fiscal year in which the State is applying for the grant. SAFETEA-LU specifies that the safety belt use rate is to be determined under criteria developed by the Secretary of Transportation (by delegation, NHTSA).

On September 1, 1998, NHTSA published in the Federal Register the “Uniform Criteria for State Observational Surveys of Seat Belt Use” (codified at 23 CFR part 1340). The Uniform Criteria, adopted as a final rule after addressing State comments, established requirements to ensure the statistical validity and consistency of safety belt use surveys conducted in connection with a grant program under the Transportation Equity Act for the 21st Century (TEA-21). Since States have already implemented the procedures and deployed the resources to conduct these surveys, and have been conducting these surveys for many years, NHTSA intends to retain these Uniform Criteria for use in the Section 406 Program. This will ensure that the integrity of safety belt use rate data is maintained without imposing new burdens or procedures on the States. Therefore, a State seeking a grant as a Safety Belt Performance State must demonstrate the required safety belt use rates by conducting surveys in accordance with the Uniform Criteria at 23 CFR part 1340.

The first fiscal year a State may receive a grant as a Safety Belt Performance State is FY 2008. This results from SAFETEA-LU's requirement that the two consecutive calendar years of 85 percent safety belt use rate begin in calendar year 2006 and precede the fiscal year of the grant. Only States without a conforming primary safety belt use law in effect and that did not have such a law in effect on August 10, 2005 (the date SAFETEA-LU was enacted) are eligible for a grant as a Safety Belt Performance State. The August 10, 2005 date precludes a State from rescinding an existing primary safety belt use law in an effort to qualify as a Safety Belt Performance State. We believe this would be inconsistent with SAFETEA-LU's intent.

Eligibility

The Section 406 Program derives its definition of “State” from 23 U.S.C. 401. In accordance with 23 U.S.C. 401, the 50 States, the District of Columbia, Puerto Rico, American Samoa, the Commonwealth of the Northern Mariana Islands, Guam and the Virgin Islands (“the States”) are eligible to apply for grants under Section 406.

Application Procedures

New Primary Law States

To apply for grant funds in a fiscal year, New Primary Law States must submit the certifications required by Appendix 1, signed by the Governor's Representative for Highway Safety, to the appropriate NHTSA Regional Administrator by no later than July 1 of the fiscal year. (In order to receive its grant award as soon as possible following the date of effectiveness of its primary safety belt use law, a State is encouraged to submit this information earlier than the July 1 deadline of each year.)

Pre-2003 Primary Law States

Pre-2003 Primary Law States need not submit an application. SAFETEA-LU provides that, to the extent funds remain in each fiscal year after award of grants to all qualifying New Primary Law States and Safety Belt Performance States, including Catch-Up grants, NHTSA may make awards to Pre-2003 Primary Law States. The Pre-2003 Primary Law States identified under that section will receive grants in accordance with this statutory provision. Pre-2003 Primary Law States must submit the certifications required by Appendix 2, signed by the Governor's Representative for Highway Safety, as a precondition to receiving grant funds.

Safety Belt Performance States

Beginning in FY 2008, a Safety Belt Performance State may qualify for a grant by having safety belt use rates of 85 percent or more for the two consecutive calendar years preceding the fiscal year for which it seeks a grant (i.e., a State seeking a grant in FY 2008 must have a safety belt use rate of 85 percent or more in calendar years 2006 and 2007 and a State seeking a grant in FY 2009 must have a safety belt use rate of 85 percent or more in calendar years 2007 and 2008). The reported safety belt use rates must be at least 85 percent for each year, as mandated by SAFETEA-LU, and measured by observational surveys conducted in accordance with the Uniform Criteria for State Observational Surveys of Seat Belt Use, 23 CFR part 1340. The State's survey must be reviewed and approved by NHTSA. A State whose survey has previously been approved by NHTSA as conforming to the Uniform Criteria and whose survey design has remained unchanged does not need to resubmit its survey for review. For each survey year, a Safety Belt Performance State must provide the use rate information (from its survey results) and certifications required by Appendix 3, signed by the Governor's Representative for Highway Safety.

NHTSA will accept the information and certifications required by Appendix 3 for a given calendar year from June 15 of that calendar year through March 1 of the following calendar year. States may conduct more than one survey in a calendar year, and may submit a safety belt use rate and accompanying certification for each survey. For the purposes of this program, the final measure of the State's safety belt use rate for a given calendar year is the highest result obtained by the State for that year, using a conforming survey. Within 30 days of a State's submission of the information and certifications required by Appendix 3 in each calendar year, NHTSA will respond with one of the following: (1) A confirmation that the submitted safety belt use rate is based on a survey that is consistent with the Uniform Criteria for State Observational Surveys of Seat Belt Use; (2) a determination that the submission is not consistent with the Uniform Criteria for State Observational Surveys of Seat Belt Use, with an explanation of the reasons for this determination; or, (3) a request for additional information to assist in determining whether the reported safety belt use rate is acceptable.

Award Procedures

Initial Agency Response

New Primary Law States

Within 30 days following receipt of the specified application materials, NHTSA will respond to New Primary Law States with one of the following: (1) An affirmation that the State's law satisfies the requirements for a Section 406 grant; (2) a determination that the law is not a conforming primary safety belt use law, with an explanation of the reasons for this determination; or (3) a request for additional information to assist in determining whether the law is a conforming primary safety belt use law.

Pre-2003 Primary Law States

If funds remain after all qualifying New Primary Law States (and, beginning in FY 2008, all Safety Belt Performance States) have received their awards in a fiscal year, the agency will notify Pre-2003 Primary Law States of their awards. Before receiving any grant funds, a Pre-2003 Primary Law State must submit the certification required by Appendix 2, as described above under “Application Procedures.”

Safety Belt Performance States

Beginning in FY 2008, the agency will notify Safety Belt Performance States of their awards, based on achieving a safety belt use rate of 85 percent or more for the two consecutive calendar years preceding the fiscal year of the grant. Before receiving any grant funds, a Safety Belt Performance State must submit the certification required by Appendix 4.

Award of Grant Funds

Section 406 authorizes $124.5 million during each of four fiscal years from FY 2006 through FY 2009. SAFETEA-LU provides that, in the event that there are insufficient funds available to fully fund all eligible States under the Section 406 grant program, the agency must first make grants to New Primary Law States and Safety Belt Performance States, in the order in which conforming laws are enacted or the 85 percent use rate is achieved for 2 consecutive calendar years, respectively. For purposes of determining the order of grant awards, a New Primary Law State will be deemed to have enacted its law on the date it becomes effective (because SAFETEA-LU requires the law to be “in effect”) and a Safety Belt Performance State will be deemed to have achieved its safety belt use rate on December 31 of the second of the two consecutive calendar years for which it submits its safety belt use rates (because SAFETEA-LU and the Uniform Criteria at 23 CFR part 1340 allow for the measurement of safety belt use rates throughout the calendar year). Subject to the availability of funds in each fiscal year, NHTSA will award grants to New Primary Law States and Safety Belt Performance States based on the date they were deemed to achieve compliance. If necessary due to funding constraints, Safety Belt Performance States will receive awards in descending order of the safety belt use rate achieved during the second of the two consecutive calendar years on which the award is based.

SAFETEA-LU provides for a “Catch-Up” grant in the next fiscal year to any New Primary Law State or Safety Belt Performance State that did not receive a grant due to a shortfall in available funds, provided the State's primary safety belt use law remains in effect or its safety belt use rate remains at 85 percent or more in the calendar year preceding the fiscal year of the Catch-Up grant. Subject to these conditions, should funds be exhausted before NHTSA has fully funded all New Primary Law State grants and Safety Belt Performance State grants in a fiscal year, these shortfall States will receive Catch-Up awards before any new grants are awarded in the following fiscal year.

After awards have been made to all qualifying New Primary Law States (and, beginning in FY 2008, to all Safety Belt Performance States) in a fiscal year, including all Catch-Up awards, NHTSA will award any remaining funds in that fiscal year to Pre-2003 Primary Law States. SAFETEA-LU provides that these awards may be made in “annual installments.” Therefore, if remaining amounts are insufficient to fully fund the Pre-2003 Primary Law States, NHTSA intends to provide each such State a share of the available funds (up to the maximum for which the State qualifies) based on the ratio of the State's fully-funded grant to the total grant funds for which these States collectively qualify (consistent with SAFETEA-LU's requirement that a grant be made to “each State”). A Pre-2003 Primary Law State may continue to receive annual installment awards only as long as it remains in compliance with the award criteria.

In the event that funds remain in the Section 406 program after all qualifying States have been fully funded in FY 2009, including Catch-Up grants and completion of annual installments, SAFETEA-LU provides that those amounts are to be allocated among all States that have in effect and are enforcing conforming primary safety belt use laws. SAFETEA-LU further provides that the allocations are to be made in accordance with the formula for apportioning funds to the States under Section 402.

Eligible Uses of Grant Funds

As prescribed by SAFETEA-LU, grant funds awarded under Section 406 may be used for any safety purpose under Title 23, United States Code, including behavioral and infrastructure safety programs, or for any project that corrects or improves a hazardous roadway location or feature or proactively addresses highway safety problems, including:

• Intersection improvements;

• Pavement and shoulder widening;

• Installation of rumble strips and other warning devices;

• Improving skid resistance;

• Improvements for pedestrian or bicyclist safety;

• Railway-highway crossing safety;

• Traffic calming;

• The elimination of roadside obstacles;

• Improving highway signage and pavement marking;

• Installing priority control systems for emergency vehicles at signalized intersections;

• Installing traffic control or warning devices at locations with high accident potential;

• Safety conscious planning; and,

• Improving crash data collection and analysis.

SAFETEA-LU stipulates that each State that receives a Section 406 grant must expend at least $1 million of those funds for safety activities under 23 U.S.C. Chapter 4, which are administered by HTSA, and a State that receives full funding must meet this requirement. If a State receives less than the full grant to which it is entitled in a fiscal year and receives later catch-up grants or installments, the State may, at its election, pro-rate the amount spent on safety activities under 23 U.S.C. Chapter 4 across the fiscal years during which the grant is paid out.

States are encouraged to consult the Strategic Highway Safety Plan, developed and implemented in accordance with 23 U.S.C. 148, when determining the uses of these grant funds.

Financial Accounting and Administration

Within 30 days after notification of award, but in no event later than September 12, States must submit a letter to the appropriate NHTSA Regional Administrator and FHWA Division Administrator, signed by both the Governor's Representative for Highway Safety and the Chief Executive of the State's Department of Transportation, specifying how the State intends to split the funds between behavioral highway safety programs administered by NHTSA and Federal-aid highway safety programs administered by FHWA, provided that at least $1 million of the funds (or a pro-rated amount, as noted above) must be identified for behavioral highway safety activities. The funds identified for Federal-aid highway safety programs will be provided to FHWA to administer. (The letter to the Regional and Division Administrators is necessary to ensure proper accounting for the federal funds.) Within that time period, States must also submit electronically to the agency a program cost summary (HS Form 217) obligating the NHTSA-administered funds to programs authorized under 23 U.S.C. 406. Submission of the letter to NHTSA/FHWA Regional and Division Administrators and the NHTSA program cost summary is a precondition to receiving grant funds. The Federal share of programs funded under this Section shall be 100 percent.

Reporting Requirements

Each fiscal year until all Section 406 grant funds are expended, States should carefully document how they intend to use the NHTSA-administered funds in the Highway Safety Plan they submit pursuant to 23 U.S.C. 402 (or in an amendment to that plan) and detail the program activities accomplished in the Annual Report they submit pursuant to 23 CFR 1200.33.

Each fiscal year until all Section 406 grant funds are expended, States should carefully document how they intend to use the FHWA-administered funds in the States' program of projects and strategies to reduce identified safety problems pursuant to 23 U.S.C. 148 and detail the program activities accomplished in the annual report they submit pursuant to 23 U.S.C. 148(g).

BILLING CODE 4910-59-P

Issued on: January 19, 2006.
Jacqueline Glassman,
Deputy Administrator.

[FR Doc. 06-718 Filed 1-24-06; 8:45 am]

BILLING CODE 4910-59-C